DEPARTMENT OF HEALTH AND HUMAN SERVICES

Centers for Medicare and Medicaid Services

Privacy Act of 1974; CMS Computer Match No. 2008-02 HHS Computer Match No. 0602

AGENCY: Department of Health and Human Services (HHS), Centers for Medicare & Medicaid Services (CMS).

ACTION: Notice of Computer Matching Program.

SUMMARY: In accordance with the requirements of the Privacy Act of 1974, as amended, this notice establishes a computer matching agreement between CMS and the Department of Defense (DoD). We have provided background information about the proposed matching program in the SUPPLEMENTARY INFORMATION section below. The Privacy Act requires that CMS provide an opportunity for interested persons to comment on the proposed matching program. We may defer implementation of this matching program if we receive comments that persuade us to defer implementation. See “Effective Dates” section below for comment period.

DATES: Effective Dates: CMS filed a report of the Computer Matching Program (CMP) with the Chair of the House Committee on Government Reform and Oversight, the Chair of the Senate Committee on Homeland Security and Governmental Affairs, and the Administrator, Office of Information and Regulatory Affairs, Office of Management and Budget (OMB) on 09-24-2008. We will not disclose any information under a matching agreement until 40 days after filing a report to OMB and Congress or 30 days after publication, whichever is later.

ADDRESSES: The public should address comments to: Walter Stone, CMS Privacy Officer, Division of Privacy Compliance (DPC), Enterprise Architecture and Strategy Group (EASG), Office of Information Services (OIS), CMS, Mail stop N2-04-27, 7500 Security Boulevard, Baltimore, Maryland 21244-1850. Comments received will be available for review at this location, by appointment, during regular business hours, Monday through Friday from 9 a.m.—3 p.m., eastern daylight time.

FOR FURTHER INFORMATION CONTACT: Walter Stone, CMS Privacy Officer, Division of Privacy Compliance (DPC), Enterprise Architecture and Strategy Group (EASG), Office of Information Services (OIS), CMS, Mail stop N2-04-27, 7500 Security Boulevard, Baltimore, Maryland 21244-1850.

SUPPLEMENTARY INFORMATION:

I. Description of the Matching Program

A. General

The Computer Matching and Privacy Protection Act of 1988 (Pub. L. 100-503), amended the Privacy Act (5 U.S.C. 552a) by describing the manner in which computer matching involving Federal agencies could be performed and adding certain protections for individuals applying for and receiving Federal benefits.

Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all CMPs that this Agency participates in comply with the requirements of the Privacy Act of 1974, as amended.

Dated: September 23, 2008.
Charlene Frizzera,
Chief Operating Officer, Centers for Medicare & Medicaid Services.

CMS Computer Match No. 2008-02

HHS Computer Match No. 0602

NAME:

“Disclosure of Enrollment and Eligibility Information for Military Health System Beneficiaries Who are Medicare Eligible.”

SECURITY CLASSIFICATION:

Level Three Privacy Act Sensitive.

PARTICIPATING AGENCIES:

The Centers for Medicare & Medicaid Services (CMS); and Department of Defense (DoD), Manpower Data Center (DMDC), Defense Enrollment and Eligibility Reporting System Office (DEERS), and the Office of the Assistant Secretary of Defense (Health Affairs)/TRICARE Management Activity (TMA).

AUTHORITY FOR CONDUCTING MATCHING PROGRAM:

This CMA is executed to comply with the Privacy Act of 1974 (Title 5 United States Code (U.S.C.) § 552a), as amended, (as amended by Public Law (Pub. L.) 100-503, the Computer Matching and Privacy Protection Act of 1988), the Office of Management and Budget (OMB) Circular A-130, titled “Management of Federal Information Resources” at 61 Federal Register (FR) 6435 (February 20, 1996), and OMB guidelines pertaining to computer matching at 54 FR 25818 (June 19, 1989).

Prior to 1991, CHAMPUS entitlement terminated when any individual became eligible for Medicare Part A on a non-premium basis. The National Defense Authorization Act(s) (NDAA) for Fiscal Years (FY) 1992 and 1993 (Pub. L. 102-190) § 704, provide for reinstatement of CHAMPUS as second payer for beneficiaries entitled to Medicare on the basis of disability/End Stage Renal Disease (ESRD) only if they also enroll in Part B.

This agreement implements the information matching provisions of the NDAA, FY 2001 (Pub. L. 106-398) Sections 711 and 712; the NDAA, FY 1993 (Pub. L. 102-484) Section 705; and the NDAA, FY 1992 (Pub. L. 102-190) Sections 704 and 713.

Section 732 of the FY 1996 NDAA (Pub. L. 104-106), directed the administering Secretaries to develop a mechanism for notifying beneficiaries of their ineligibility for CHAMPUS when loss of eligibility is due to disability status.

PURPOSE(S) OF THE MATCHING PROGRAM:

The purpose of this agreement is to establish the conditions, safeguards and procedures under which CMS will disclose Medicare enrollment information to the DoD, DMDC, DEERS, and Health Affairs/TMA. The disclosure by CMS will provide TMA with the information necessary to determine if Military Health System (MHS) beneficiaries (other than dependents of active duty personnel), who are Medicare eligible, are eligible to receive continued military health care benefits. This disclosure will provide TMA with the information necessary to meet the Congressional mandate outlined in legislative provisions in the NDAA listed above.

Current law requires TMA to discontinue military health care benefits to MHS beneficiaries who are Medicare eligible and under the age of 65 when they become eligible for Medicare Part A because of disability/ESRD unless they are enrolled in Medicare Part B. Current law also requires TMA to provide health care and medical benefits to MHS beneficiaries who are Medicare eligible (commonly referred to as the dual eligible population) over the age of 65 who are enrolled in the supplementary medical insurance program under Part B of the Medicare program. This CMA will combine both groups of the MHS beneficiary population described above into one single database to more effectively carry out this matching program. In order for TMA to meet the requirements of current law, CMS agrees to disclose certain Part A and Part B enrollment data on this dual eligible population, which will be used to determine a beneficiary's eligibility for care under CHAMPUS/TRICARE. DEERS will receive the results of the computer match and provide the information to TMA for use in its matching program.

This computer matching agreement supersedes all existing data exchange agreements between CMS and DMDC applicable to the exchange of personal data for purposes of disclosing enrollment and eligibility information for MHS beneficiaries who are Medicare eligible.

CATEGORIES OF RECORDS AND INDIVIDUALS COVERED BY THE MATCH:

DEERS will furnish CMS with an electronic file on a monthly basis extracted from the DEERS' systems of records containing social security numbers (SSN) for all MHS beneficiaries who may also be eligible for Medicare benefits. CMS will match the DEERS finder file against its “Medicare Beneficiary Database” system of records (System No. 09-70-0536), and will validate the identification of the beneficiary and provide the Health Insurance Claim Number that matches against the SSN and date of birth provided by DEERS, and also provide the Medicare Part A entitlement status and Part B enrollment status of the beneficiary. CMS's data will help TMA to determine a beneficiary's eligibility for continued care under TRICARE. DEERS will receive the results of the computer match and provide the information provided to TMA for use in its program.

DESCRIPTION OF RECORDS TO BE USED IN THE MATCHING PROGRAM:

DoD will use the SOR identified as S322.50, entitled “Defense Eligibility Records,” at 69 Federal Register (FR) 33376 (June 15, 2004), as amended by 69 FR 67118 (November 16, 2004). SSNs of DoD beneficiaries will be released to CMS pursuant to the routine use set forth in the system notice, which provides that data may be released to HHS “for support of the DEERS enrollment process and to identify individuals not entitled to health care.”

Identification and Medicare status of DoD eligible beneficiaries will be provided to TMA to implement the statutory program. Therefore, eligibility information may also be maintained in the SOR identified as DHA 07, entitled “Military Health Information System (MHIS),” at 70 FR 44574 (August 3, 2005).

The release of the data for CMS is covered under the “Enrollment Database,” System No. 09-70-0502 published in the Federal Register at 73 FR 10249 (February 26, 2008). Matched data will be released to DEERS pursuant to the routine use number 2 as set forth in the system notice.

INCLUSIVE DATES OF THE MATCH:

The Matching Program shall become effective no sooner than 40 days after the report of the Matching Program is sent to OMB and Congress, or 30 days after publication in the Federal Register, which ever is later. The matching program will continue for 18 months from the effective date and may be renewed for an additional 12 month period as long as the statutory language for the match exists and other conditions are met.

[FR Doc. E8-23080 Filed 9-30-08; 8:45 am]

BILLING CODE 4120-01-P